DEPARTMENT OF TRANSPORTATION

Federal Aviation Administration

14 CFR Part 39

[Docket No. FAA-2016-0068; Directorate Identifier 2015-CE-037-AD; Amendment 39-18484; AD 2016-08-08]

RIN 2120-AA64

Airworthiness Directives; SOCATA Airplanes

AGENCY: Federal Aviation Administration (FAA), Department of Transportation (DOT).

ACTION: Final rule.

SUMMARY: We are superseding airworthiness directive (AD) 92-06-10 for SOCATA Models MS 880B, MS 885, MS 892A-150, MS 892E-150, MS 893A, MS 893E, MS 894A, MS 894E, Rallye 100S, Rallye 150ST, Rallye 150T, Rallye 235E, and Rallye 235C airplanes. This AD results from mandatory continuing airworthiness information (MCAI) issued by an aviation authority of another country to identify and correct an unsafe condition on an aviation product. The MCAI describes the unsafe condition as fatigue failure of the nose landing gear wheel axle. We are issuing this AD to require actions to address the unsafe condition on these products.

DATES: This AD is effective May 18, 2016.

The Director of the Federal Register approved the incorporation by reference of a certain publication listed in the AD as of May 18, 2016.

ADDRESSES: You may examine the AD docket on the Internet at http://www.regulations.gov by searching for and locating Docket No. FAA-2016-0068; or in person at the Docket Management Facility, U.S. Department of Transportation, Docket Operations, M-30, West Building Ground Floor, Room W12-140, 1200 New Jersey Avenue SE., Washington, DC 20590.

For service information identified in this AD, contact SOCATA, Direction des services, 65921 Tarbes Cedex 9, France; phone: +33 (0) 5 62 41 73 00; fax: +33 (0) 5 62 41 76 54; email: info@socata.daher.com; Internet: http://www.tbm.aero/. For the United States, contact SOCATA NORTH AMERICA, North Perry Airport, 601 NE 10 Street, Pompano Beach, Florida 33060; phone: (954) 366-3331; Internet: http://www.socatanorthamerica.com/default.htm. You may view this referenced service information at the FAA, Small Airplane Directorate, 901 Locust, Kansas City, Missouri 64106. For information on the availability of this material at the FAA, call (816) 329-4148. It is also available on the Internet at http://www.regulations.gov by searching for Docket No. FAA-2016-0068.

FOR FURTHER INFORMATION CONTACT: Albert Mercado, Aerospace Engineer, 901 Locust, Room 301, Kansas City, Missouri 64106; telephone: (816) 329-4119; fax: (816) 329-4090; email: albert.mercado@faa.gov.

SUPPLEMENTARY INFORMATION:

Discussion

We issued a notice of proposed rulemaking (NPRM) to amend 14 CFR part 39 by adding an AD that would apply to SOCATA Models MS 880B, MS 885, MS 894A, MS 893A, MS 892A-150, MS 892E-150, MS 893E, MS 894E, Rallye 100S, Rallye 150T, Rallye 150ST, Rallye 235E, and Rallye 235C airplanes. That NPRM was published in the Federal Register on January 15, 2016 (81 FR 2134), and proposed to supersede AD 92-06-10, Amendment 39-8190 (57 FR 8063; March 6, 1992) (“92-06-10”).

The NPRM proposed to correct an unsafe condition for the specified products and was based on mandatory continuing airworthiness information (MCAI) originated by an aviation authority of another country. The MCAI states that:

A nose landing gear (NLG) wheel axle rupture occurred in service. The results of the technical investigation revealed that this failure was due to premature wear.

This condition, if not detected and corrected, could lead to cracks in the axle and detachment of axle and wheel, possibly resulting in failure of the NLG with consequent damage to the aeroplane and injury to occupants.

To address this potential unsafe condition, DGAC France issued AD 91-163(A) (later revised twice) to require repetitive detailed inspections (DET) of the NLG wheel axle and replacement of the NLG wheel axle attachment screws in accordance with the instructions of SOCATA Service Bulletin (SB) 150-32.

Since DGAC France AD 91-163(A)R2 was issued, new findings led to an adjustment of the inspection interval. Consequently, SOCATA issued SB 150-32, now at Revision 3.

The MCAI can be found in the AD docket on the Internet at: http://www.regulations.gov/#!documentDetail;D=FAA-2016-0068-0002.

Comments

We gave the public the opportunity to participate in developing this AD. We received no comments on the NPRM (81 FR 2134, January 15, 2016) or on the determination of the cost to the public.

Conclusion

We reviewed the relevant data and determined that air safety and the public interest require adopting the AD as proposed except for minor editorial changes. We have determined that these minor changes:

• Are consistent with the intent that was proposed in the NPRM (81 FR 2134, January 15, 2016) for correcting the unsafe condition; and

• Do not add any additional burden upon the public than was already proposed in the NPRM (81 FR 2134, January 15, 2016).

Related Service Information Under 1 CFR Part 51

We reviewed Daher-Socata Mandatory Service Bulletin SB 150-32, Revision 3, dated September 2015. The service bulletin describes procedures for inspection of the nose gear wheel axle. This service information is reasonably available because the interested parties have access to it through their normal course of business or by the means identified in the ADDRESSES section of the AD.

Costs of Compliance

We estimate that this AD will affect 77 products of U.S. registry. We also estimate that it would take about 10 work-hours per product to comply with the basic requirements of this AD. The average labor rate is $85 per work-hour. Required parts would cost about $500 per product.

Based on these figures, we estimate the cost of the AD on U.S. operators to be $103,950, or $1,350 per product.

In addition, we estimate that any necessary follow-on actions would take about 3 work-hours and require parts costing $1,450, for a cost of $1,705 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2016-0068; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-8190 (57 FR 8063; March 6, 1992) and adding the following new AD:

2016-08-08 SOCATA: Amendment 39-18484; Docket No. FAA-2016-0068; Directorate Identifier 2015-CE-037-AD.

(a) Effective Date

This airworthiness directive (AD) becomes effective May 18, 2016.

(b) Affected ADs

This AD supersedes AD 92-06-10 Amendment 39-8190 (57 FR 8063; March 6, 1992) (“AD 92-06-10”).

(c) Applicability

This AD applies to SOCATA Models MS 880B, MS 885, MS 892A-150, MS 892E-150, MS 893A, MS 893E, MS 894A, MS 894E, Rallye 100S, Rallye 150ST, Rallye 150T, Rallye 235E, and Rallye 235C airplanes, all serial numbers, certificated in any category.

(d) Subject

Air Transport Association of America (ATA) Code 32: Landing Gear.

(e) Reason

This AD was prompted by mandatory continuing airworthiness information (MCAI) originated by an aviation authority of another country to identify and correct an unsafe condition on an aviation product. The MCAI describes the unsafe condition as fatigue failure of the nose landing gear wheel axle. We are issuing this AD to detect and correct chafing and cracking of the nose gear wheel axle, which could lead to failure of the nose landing gear with consequent damage to the airplane and/or occupants.

(f) Actions and Compliance

Do the actions in paragraphs (f)(1) through (f)(5) of this AD, including all subparagraphs. If the initial actions of paragraphs (f)(1), (f)(2), (f)(3), and (f)(4) of this AD have already been done before the effective date of this AD, then do the repetitive actions of these paragraphs at the specified times.

(1) Do a detailed visual inspection of the intersection between the axle radius and the nose landing gear fork area for chafing at whichever occurs later in paragraph (f)(1)(i) or (f)(1)(ii) of this AD and repetitively thereafter at intervals not to exceed 200 hours time-in-service (TIS) following Daher-Socata Mandatory Service Bulletin SB 150-32, Revision 3, dated September 2015:

(i) Upon accumulating 200 hours TIS since the airplane's first flight or 200 hours TIS since the last inspection required by AD 92-06-10; or

(ii) Within the next 50 hours TIS after May 18, 2016 (the effective date of this AD) or within 500 hours TIS since the last inspection required by AD 92-06-10, whichever occurs first.

(2) Do a dye penetrant inspection on the nose wheel axle for cracks, distortion, and nicks or wear at whichever occurs later in paragraph (f)(2)(i) or (f)(2)(ii) of this AD and repetitively thereafter at intervals not to exceed 200 hours time-in-service (TIS) following Daher-Socata Mandatory Service Bulletin SB 150-32, Revision 3, dated September 2015:

(i) Upon accumulating 200 hours TIS since the airplane's first flight or 200 hours TIS since the last inspection required by AD 92-06-10; or

(ii) Within the next 50 hours TIS after May 18, 2016 (the effective date of this AD) or within 500 hours TIS since the last inspection required by AD 92-06-10, whichever occurs first.

(3) If any cracks or damage is found in any inspection required by paragraphs (f)(1) or (f)(2) in this AD, contact SOCATA for FAA-approved repair or replacement instructions approved specifically for this AD and, before further flight, implement those instructions. Use the contact information found in paragraph (j) of this AD to contact SOCATA.

(4) Replace the nose landing gear wheel axle attachment screws with new screws at whichever occurs later in paragraph (f)(4)(i) or (f)(4)(ii) of this AD following Daher-Socata Mandatory Service Bulletin SB 150-32, Revision 3, dated September 2015:

(i) Upon accumulating 2,000 hours TIS since airplane's first flight or 2,000 hours TIS since last nose landing gear wheel attachment screw replacement with new screws; or

(ii) Within 50 hours TIS since April 17, 1992 (the effective date retained from AD 92-06-10).

(5) After May 18, 2016 (the effective date of this AD), a used nose landing gear or a used nose landing gear wheel axle may be installed provided it has been inspected and found free of cracks and/or damage and the nose landing gear wheel axle attachment screws have been replaced with new screws as specified in paragraphs (f)(1), (f)(2), and (f)(4) of this AD.

(g) Credit for Actions Accomplished in Accordance With Previous Service Information

This AD allows credit for the inspections required in paragraph (f)(1) and (f)(2) of this AD, if done before May 18, 2016 (the effective date of this AD), following Daher-Socata Mandatory Service Bulletin SB 150-32, Revision 2, dated January 1994.

(h) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI European Aviation Safety Agency (EASA) AD 2015-0203, dated October 7, 2015; and Daher-Socata Mandatory Service Bulletin SB 150-32, Revision 2, dated January 1994, for related information. The MCAI can be found in the AD docket on the Internet at: http://www.regulations.gov/#!documentDetail;D=FAA-2016-0068-0002.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Daher-Socata Mandatory Service Bulletin SB 150-32, Revision 3, dated September 2015.

(ii) Reserved.

(3) For SOCATA service information identified in this AD, contact SOCATA, Direction des services, 65921 Tarbes Cedex 9, France; phone: +33 (0) 5 62 41 73 00; fax: +33 (0) 5 62 41 76 54; email: info@socata.daher.com; Internet: http://www.tbm.aero/. For the United States, contact SOCATA NORTH AMERICA, North Perry Airport, 601 NE 10 Street, Pompano Beach, Florida 33060; phone: (954) 366-3331; Internet: http://www.socatanorthamerica.com/default.htm.

(4) You may view this service information at the FAA, Small Airplane Directorate, 901 Locust, Kansas City, Missouri 64106. For information on the availability of this material at the FAA, call (816) 329-4148. In addition, you can access this service information on the Internet at http://www.regulations.gov by searching for and locating Docket No. FAA-2016-0068.

(5) You may view this service information that is incorporated by reference at the National Archives and Records Administration (NARA). For information on the availability of this material at NARA, call 202-741-6030, or go to: http://www.archives.gov/federal-register/cfr/ibr-locations.htm l.

Issued in Kansas City, Missouri, on April 4, 2016.
Pat Mullen,
Acting Manager, Small Airplane Directorate, Aircraft Certification Service.

[FR Doc. 2016-08262 Filed 4-12-16; 8:45 am]

BILLING CODE 4910-13-P